DEPARTMENT OF ENERGY

Federal Energy Regulatory Commission

Combined Notice of Filings #1

Take notice that the Commission received the following electric corporate filings:

Docket Numbers: EC23-56-000.

Applicants: Kentucky Power Company, AEP Kentucky Transmission Company, Inc., Liberty Utilities Co.

Description: Joint Application for Authorization Under Section 203 of the Federal Power Act of Liberty Utilities Co.

Filed Date: 2/14/23.

Accession Number: 20230214-5108.

Comment Date: 5 p.m. ET 3/31/23.

Take notice that the Commission received the following Complaints and Compliance filings in EL Dockets:

Docket Numbers: EL22-89-000.

Applicants: Cage Ranch Solar, LLC and Cage Ranch Solar II, LLC vs. Southwest Power Pool, Inc.

Description: Motion to Answer, Answer, and Amendment to Complaint and Petition filed on September 20, 2022, by Cage Ranch Solar, LLC, et al.

Filed Date: 2/13/23.

Accession Number: 20230213-5176.

Comment Date: 5 p.m. ET 3/6/23.

Take notice that the Commission received the following electric rate filings:

Docket Numbers: ER22-2968-001.

Applicants: Southwest Power Pool, Inc.

Description: Tariff Amendment: Deficiency Response—Provisions for Self-Funding Network Upgrades to be effective 12/1/2022.

Filed Date: 2/14/23.

Accession Number: 20230214-5098.

Comment Date: 5 p.m. ET 3/7/23.

Docket Numbers: ER23-69-001.

Applicants: Southwest Power Pool, Inc.

Description: Tariff Amendment: Deficiency Response—Lincoln Electric System Revisions to Formula Rate Protocols to be effective 4/1/2023.

Filed Date: 1/30/23.

Accession Number: 20230130-5196.

Comment Date: 5 p.m. ET 2/28/23.

Docket Numbers: ER23-1109-000.

Applicants: PJM Interconnection, L.L.C.

Description: § 205(d) Rate Filing: Original ISA, SA No. 6770; Queue No. AE2-071 & Cancellation of IISA, SA No. 6378 to be effective 1/17/2023.

Filed Date: 2/14/23.

Accession Number: 20230214-5029.

Comment Date: 5 p.m. ET 3/7/23.

Docket Numbers: ER23-1110-000.

Applicants: PJM Interconnection, L.L.C.

Description: § 205(d) Rate Filing: Original NSA, SA No. 6784; Queue No. NQ-71 to be effective 1/25/2023.

Filed Date: 2/14/23.

Accession Number: 20230214-5059.

Comment Date: 5 p.m. ET 3/7/23.

Docket Numbers: ER23-1111-000.

Applicants: Southwestern Public Service Company, Southwest Power Pool, Inc.

Description: § 205(d) Rate Filing: Southwestern Public Service Company submits tariff filing per 35.13(a)(2)(iii: SPS Formula Rate Revisions to Incorporate Changes Accepted in ER22-2955 to be effective 1/1/2023.

Filed Date: 2/14/23.

Accession Number: 20230214-5073.

Comment Date: 5 p.m. ET 3/7/23.

Docket Numbers: ER23-1112-000.

Applicants: PacifiCorp.

Description: § 205(d) Rate Filing: OATT Revised LGIP Sections 38, Attachment N to be effective 4/16/2023.

Filed Date: 2/14/23.

Accession Number: 20230214-5119.

Comment Date: 5 p.m. ET 3/7/23.

Docket Numbers: ER23-1113-000.

Applicants: Tri-State Generation and Transmission Association, Inc.

Description: § 205(d) Rate Filing: Revisions to Rate Schedule FERC No. 281 Modified CTP Methodology to be effective 4/17/2023.

Filed Date: 2/14/23.

Accession Number: 20230214-5144.

Comment Date: 5 p.m. ET 3/7/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 14, 2023.
Debbie-Anne A. Reese,
Deputy Secretary.

[FR Doc. 2023-03552 Filed 2-17-23; 8:45 am]

BILLING CODE 6717-01-P